DEPARTMENT OF HEALTH AND HUMAN SERVICES

Centers for Disease Control and Prevention

[Program Announcement AA118]

Increasing Prevention, Care, and Treatment of HIV/AIDS Through Support Programs Conducted by the Government of Botswana; Notice of Intent to Fund Single Eligibility Award

A. Purpose

The Centers for Disease Control and Prevention (CDC) announces the intent to fund fiscal year (FY) 2005 funds for a cooperative agreement program with the Government of Botswana (GOB) to increase United States (US) support for Botswana to limit the further spread of HIV/AIDS and to provide care and treatment for those affected by this disease. This funding is part of the United States President's Emergency Plan for AIDS Relief (PEPFAR) program and the activities within this cooperative agreement will contribute to the global targets of the Emergency Plan.

The purpose of the program is to limit the spread of HIV/AIDS in Botswana and provide care and treatment programs for those affected by the disease. Emphasis will be placed on providing education and communication (to promote abstinence based and partner reduction messages), increasing Counseling and Testing (CT) services, training (for health care providers on a variety of HIV issues to include palliative care and prescription of anti-retroviral drugs (ARV)), strengthening support and capacity for orphans and vulnerable children, and ensuring laboratory security enhancements and drug security. Laboratory supplies (ARVs, laboratory reagents, rapid HIV test kits, CD4 test kits, and viral load test kits) will also be procured. Monitoring and Evaluation (M&E) of all programs and services will be essential in measuring success of these activities. All program activities conducted in this cooperative agreement are part of the PEPFAR and were discussed and negotiated during the development of the Botswana Country Operational Plan (COP), Five-Year Strategic Plan, and National Strategic Framework.

The Catalog of Federal Domestic Assistance number for this program is 93.067.

B. Eligible Applicant

Assistance will be provided only to the Government of Botswana (GOB) for support of the activities.

The GOB is the only qualified organization to fulfill the requirements set forth in this announcement because:

1. The GOB is uniquely positioned in terms of constitutional authority, mandate and ability to oversee and safeguard public health, and to work with MOH, NACA, MOLG, MOE, and other Ministries in order to carry out the activities listed in this announcement.

2. The GOB has in place the necessary public health infrastructure as well as linkages with community-based and faith-based organizations that will have a role in the program activities.

3. The specific services that will be implemented by the GOB are directly associated with the CDC/USG prevention, treatment and care strategies implemented under the Global AIDS program (GAP) in Botswana and the PEPFAR.

C. Funding

Approximately $50,000,000 is available for a five-year project period, beginning in FY2005, to fund this award on August 31, 2005. Funding estimates may change.

D. Where to Obtain Additional Information

For general comments or questions about this announcement, contact: Technical Information Management, CDC Procurement and Grants Office, 2920 Brandywine Road, Atlanta, GA 30341-4146, Telephone: 770-488-2700.

For technical questions about this program, contact: Thierry Roels, Project Officer, Plot 5348 Ditlhakore Way, Extension 12, Gaborone, Telephone: 267-390-1696, E-mail: tbr6@botusa.org.

For financial, grants management, or budget assistance, contact: Shirley Wynn, Grants Management Specialist, CDC Procurement and Grants Office, U.S. Department of Health and Human Services, 2920 Brandywine Road, Atlanta, GA 30341, Telephone: 770-488-1515, E-mail: ZBX6@cdc.gov.

Dated: July 29, 2005.
William P. Nichols,
Director, Procurement and Grants Office, Centers for Disease Control and Prevention.

[FR Doc. 05-15411 Filed 8-3-05; 8:45 am]

BILLING CODE 4163-18-P